DEPARTMENT OF TRANSPORTATION

Federal Aviation Administration

Classification and Standardized Policy for Design Changes to Technical Standard Orders (TSO) C127 and TSO-C127a Articles

AGENCY: Federal Aviation Administration (FAA), DOT.

ACTION: Notice of availability and request for comments.

SUMMARY: This notice announces the availability of and requests comment on proposed policy for articles approved to Technical Standard Orders (TSO) C127 and TSO-C127a, Rotorcraft, Transport Airplane, and Normal and Utility Seating System. The proposed memorandum provides guidance to Federal Aviation Administration personnel and aircraft seat manufacturers on classifying design changes they make to their TSO articles as major or minor.

DATES: Comments must be received by April 10, 2003.

ADDRESSES: Send all comments on the proposed policy for the classification of design changes to articles approved to Technical Standard Orders (TSO) C127 and TSO-C127a to: Federal Aviation Administration, Aircraft Certification Service, Aircraft Engineering Division, Room 815 , AIR-100, 800 Independence Avenue, SW., Washington, DC 20591. ATTN. Hal Jensen, AIR-120. Or, deliver comments to Federal Aviation Administration, Room 815, 800 Independence Avenue, SW., Washington, DC 20591.

FOR FURTHER INFORMATION CONTACT: Hal Jensen, Federal Aviation Administration, Aircraft Certification Service, Aircraft Engineering Division, Technical Programs Branch, AIR-120, Room 835, 800 Independence Avenue, SW., Washington, DC 20591; Telephone: (202) 267-8807; fax (202) 267-5340; e-mail hal.jensen@faa.gov.

SUPPLEMENTARY INFORMATION:

Comments Invited

Interested person are invited to comment on the proposed policy for the classification of design changes to articles approved to Technical Standard Orders (TSO) C127 and TSO-C127a by submitting such written data, views, or arguments, as they desire, to the above specified address. Comments received on the proposed policy may be examined, before and after the closing date, in Room 815, FAA Headquarters Building (FOB-10A), 800 Independence Avenue, SW., Washington, DC 20591, weekdays except Federal holidays, between 8:30 a.m. and 4:30 p.m. The Director of the Aircraft Certification Service considers all communications received on or before the closing date before issuing the final policy.

Background

In 2000, the FAA and industry formed a team to investigate and implement ways to streamline the certification of aircraft seats. The team elected to reestablish TSOs for seats as a valid design approval and to the extent possible, maximize the minimum performance standards (MPS) toward meeting the applicable aircraft airworthiness standards, and standardize the management of TSO approvals by the FAA for aircraft seat manufacturers.

Currently, what constitutes a minor design change versus a major design change for a TSO article is open to interpretation. The lack of standardization is magnified for the dynamic seat TSOs where small design changes frequently produce significant effects on the performance of the seat. Therefore, in the absence of guidance many design changes to dynamic seats are by default considered major design changes.

All major design changes to TSO articles require the TSO holder to apply for a new TSO approval. Since all designs changes—both minor and major—must be substantiated, requiring the TSO holder to apply for a new TSO approval can be overly burdensome when the TSO holder has an approval to the latest revision of the TSO.

This proposed memorandum is intended to provide greater clarification on design changes for TSO-C127 and TSO-C127a articles by promoting standardization between seat suppliers. It also proposes greater latitude then currently exists in determining design changes classified as minor changes.

How To Obtain Copies

You may get a copy of the proposed changed TSOs from the Internet at: http://av-info.faa.gov/tso/Tsopro/Proposed.htm. You may als request a copy from Mr. Hal Jensen. See the section entitled FOR FURTHER INFORMATION CONTACT for the complete address.

Issued in Washington, DC, on March 5, 2003.
Susan J.M. Cabler,
Deputy Manager, Aircraft Engineering Division, Aircraft Certification Service.

[FR Doc. 03-5938 Filed 3-11-03; 8:45 am]

BILLING CODE 4910-13-M